NUCLEAR REGULATORY COMMISSION

[Docket No. 50-483; NRC-2012-0001]

License Renewal Application for Callaway Plant, Unit 1

AGENCY: Nuclear Regulatory Commission.

ACTION: Supplemental environmental impact statement.

SUMMARY: The U.S. Nuclear Regulatory Commission (NRC) is making available a final plant-specific supplement, Supplement 51, to NUREG-1437, “Generic Environmental Impact Statement for License Renewal of Nuclear Plants” (GEIS), regarding the renewal of Union Electric Company's Operating License NPF-30 for an additional 20 years of operation for Callaway Plant, Unit 1 (Callaway).

DATES: The final Supplement 51 to the GEIS is available as of November 14, 2014.

ADDRESSES: Please refer to Docket ID NRC-2012-0001 when contacting the NRC about the availability of information regarding this document. You may obtain publicly-available information related to this document using any of the following methods:

• Federal Rulemaking Web site: Go to http://www.regulations.gov and search for Docket ID NRC-2012-0001. Address questions about NRC dockets to Carol Gallagher; telephone: 301-287-3422; email: Carol.Gallagher@nrc.gov. For technical questions, contact the individual listed in the FOR FURTHER INFORMATION CONTACT section of this document.

• NRC's Agencywide Documents Access and Management System (ADAMS): You may obtain publicly-available documents online in the ADAMS Public Documents collection at http://www.nrc.gov/reading-rm/adams.html. To begin the search, select “ADAMS Public Documents” and then select “Begin Web-based ADAMS Search.” For problems with ADAMS, please contact the NRC's Public Document Room (PDR) reference staff at 1-800-397-4209, 301-415-4737, or by email to pdr.resource@nrc.gov. The ADAMS accession number for the final Supplement 51 to the GEIS is ML14289A140.

• NRC's PDR: You may examine and purchase copies of public documents at the NRC's PDR, Room O1-F21, One White Flint North, 11555 Rockville Pike, Rockville, Maryland 20852.

• Callaway County Public Library: The final Supplement 51 to the GEIS is available for public inspection at 710 Court Street, Callaway County, MO, 65251.

FOR FURTHER INFORMATION, CONTACT: Tam Tran, Office of Nuclear Reactor Regulation, telephone: 800-368-5692, ext. 3617, email: Tam.Tran@nrc.gov, U.S. Nuclear Regulatory Commission, Washington, DC 20555-0001.

SUPPLEMENTARY INFORMATION:

I. Background

The NRC is making available final Supplement 51 to the GEIS regarding the renewal of Union Electric Company's Operating License NPF-30 for an additional 20 years of operation for Callaway. The Callaway site is located in Callaway County, MO. The draft Supplement 51 to the GEIS was issued for public comment on February 21, 2014.

II. Discussion

As discussed in Section 9.4 of the final Supplement 51 to the GEIS, the NRC staff determined that the adverse environmental impacts of license renewal for Callaway are not so great that preserving the option of license renewal for energy-planning decisionmakers would be unreasonable. This recommendation is based on: (1) The analysis and findings in the GEIS; (2) information provided in the environmental report and other documents submitted by Union Electric Company; (3) consultation with Federal, state, local, and Tribal agencies; (4) the NRC staff's independent environmental review; and (5) consideration of public comments received during the scoping process and on the draft Supplemental Environmental Impact Statement.

Dated at Rockville, Maryland, this 5th day of November, 2014.
For the Nuclear Regulatory Commission.
Brian D. Wittick,
Chief, Projects Branch 2, Division of License Renewal, Office of Nuclear Reactor Regulation.

[FR Doc. 2014-26788 Filed 11-13-14; 8:45 am]

BILLING CODE 7590-01-P